DEPARTMENT OF ENERGY

Federal Energy Regulatory Commission

[Project No. 1864-079]

Upper Peninsula Power Company; Notice of Application for Amendment of License and Soliciting Comments, Motions To Intervene, and Protests

August 15, 2007.

Take notice that the following hydroelectric application has been filed with the Commission and is available for public inspection:

a. Application Type: Amendment of License to Permanent Modifications to Articles 401 and 402.

b. Project No: 1864-079.

c. Date Filed: July 3, 2007.

d. Applicant: Upper Peninsula Power Company.

e. Name of Project: Bond Falls Hydroelectric Project.

f. Location: On the Ontonagon River, in Ontonagon and Gogebic Counties, Michigan, and Vilas County, Wisconsin. One of the project's four developments, Bond Falls, occupies 73.5 acres of land within the Ottawa National Forest.

g. Filed Pursuant to: Federal Power Act, 16 U.S.C. 791a-825r.

h. Applicant Contact: Terry P. Jensky, Vice President, Energy Supply Operations, Upper Peninsula Power Company, 700 North Adams Street, P.O. Box 19001, Green Bay, WI 54307-9001; (715) 355-2047.

i. FERC Contact: Jake Tung, Telephone (202) 502-8757, and e-mail: hong.tung@ferc.gov.

j. Deadline for filing comments, motions to intervene, and protest: September 17, 2007. All documents (original and eight copies) should be filed with: Secretary, Federal Energy Regulatory Commission, 888 First Street, NE., Washington, DC 20426. The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: The applicant proposes to amend the license for the Bond Falls Hydroelectric Project at the Bergland Development (Lake Gogebic), as follows: (1) change end of month target elevations from 1295.7 to 1295.9 ft msl in June and from 1295.7 to 1295.5 ft msl in August and September; (2) change minimum flow trigger-elevations to match the proposed target elevations from 1295.4 to 1295.9 ft msl in June, from 1295.4 to 1295.7 ft msl in July, and from 1295.4 to 1295.5 ft msl for the period August 1 through September 14.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E7-16506 Filed 8-21-07; 8:45 am]

BILLING CODE 6717-01-P